DEPARTMENT OF AGRICULTURE

Forest Service

Flathead County Resource Advisory Committee

AGENCY: Forest Service, USDA.

ACTION: Notice of meeting.

SUMMARY: The Flathead County Resource Advisory Committee (RAC) will meet in Kalispell, Montana on March 9th. The purpose of this meeting is to discuss upcoming RAC Projects.

DATES: The meeting will be held from 4 p.m. to 6 p.m.

ADDRESSES: The meeting will be held at the Flathead County Commissioner's Office, Commissioner's Conference Room, 800 South Main, Kalispell, Montana 59901.

FOR FURTHER INFORMATION CONTACT: Kaaren Arnoux, Flathead National Forest, Administrative Assistant, (406) 758-5251.

SUPPLEMENTARY INFORMATION: The meeting is open to the public.

Denise Germann,
Public Affairs Specialist.
Cathy Barbouletos,
Forest Supervisor.

[FR Doc. 05-3750 Filed 2-25-05; 8:45 am]

BILLING CODE 3410-11-M